DEPARTMENT OF ENERGY

Federal Energy Regulatory Commission

Combined Notice of Filings #1

August 25, 2010.

Take notice that the Commission received the following electric rate filings:

Docket Numbers: ER08-850-001.

Applicants: New York Independent System Operator, Inc.

Description: New York Independent System Operator, Inc. Informational report on Operation of Rate Schedule 7, Charges for Wind Forecasting Service.

Filed Date: 08/16/2010.

Accession Number: 20100816-5156.

Comment Date: 5 p.m. Eastern Time on Tuesday, September 07, 2010.

Docket Numbers: ER10-842-002.

Applicants: Energy Plus Holdings LLC.

Description: Report of Energy Plus Holdings LLC.

Filed Date: 06/04/2010.

Accession Number: 20100604-5053.

Comment Date: 5 p.m. Eastern Time on Wednesday, September 21, 2010.

Docket Numbers: ER10-1621-001.

Applicants: Golden State Water Company.

Description: Golden State Water Company submits tariff filing per 35: Baseline Tariff Filing to be effective 6/29/2010.

Filed Date: 08/25/2010.

Accession Number: 20100825-5042.

Comment Date: 5 p.m. Eastern Time on Wednesday, September 15, 2010.

Docket Numbers: ER10-2370-000.

Applicants: NSTAR Electric Company.

Description: NSTAR Electric Company submits tariff filing per 35.12: Baseline Filing for NSTAR Electric Company Market-Based Rate Tariff to be effective 8/24/2010.

Filed Date: 08/24/2010.

Accession Number: 20100824-5137.

Comment Date: 5 p.m. Eastern Time on Tuesday, September 14, 2010.

Docket Numbers: ER10-2371-000.

Applicants: New York Independent System Operator, Inc.

Description: New York Independent System Operator submits tariff filing per 35: Compliance Filing resubmittal—Dockets EL07-39 and ER08-695 to be effective 6/30/2010.

Filed Date: 08/24/2010.

Accession Number: 20100824-5138.

Comment Date: 5 p.m. Eastern Time on Tuesday, September 14, 2010.

Docket Numbers: ER10-2372-000.

Applicants: Midwest Independent Transmission System Operator, Inc.

Description: Midwest Independent Transmission System Operator, Inc. submits tariff filing per 35.15: Cancellation of Tariff ID to be effective 12/31/1998.

Filed Date: 08/24/2010.

Accession Number: 20100824-5152.

Comment Date: 5 p.m. Eastern Time on Tuesday, September 14, 2010.

Docket Numbers: ER10-2373-000.

Applicants: Puget Sound Energy, Inc.

Description: Puget Sound Energy, Inc. submits its baseline filing of its Residential Purchase and Sale Agreement designated as Rate Schedule No. 448, to be effective 8/25/2010.

Filed Date: 08/25/2010.

Accession Number: 20100825-5000.

Comment Date: 5 p.m. Eastern Time on Wednesday, September 15, 2010.

Docket Numbers: ER10-2374-000.

Applicants: Puget Sound Energy, Inc.

Description: Puget Sound Energy, Inc. submits its baseline filing of its Market-Based Rates Tariff designated as FERC Electric Tariff, Fifth Revised Volume No. 8, to be effective 8/25/2010.

Filed Date: 08/25/2010.

Accession Number: 20100825-5001.

Comment Date: 5 p.m. Eastern Time on Wednesday, September 15, 2010.

Docket Numbers: ER10-2375-000.

Applicants: Puget Sound Energy, Inc.

Description: Puget Sound Energy, Inc. submits its baseline filing of its Electric Transmission Reassignment Tariff designated as FERC Electric Tariff, First Revised Volume No. 449, to be effective 8/25/2010.

Filed Date: 08/25/2010.

Accession Number: 20100825-5002.

Comment Date: 5 p.m. Eastern Time on Wednesday, September 15, 2010.

Docket Numbers: ER10-2376-000.

Applicants: Puget Sound Energy, Inc.

Description: Puget Sound Energy, Inc. submits its baseline filing of its Jackson Prairie Gas Storage Project Agreement designated as FERC Gas Tariff, First Revised Volume No. 1, to be effective 8/25/2010.

Filed Date: 08/25/2010.

Accession Number: 20100825-5003.

Comment Date: 5 p.m. Eastern Time on Wednesday, September 15, 2010.

Docket Numbers: ER10-2377-000.

Applicants: MATEP Limited Partnership.

Description: MATEP Limited Partnership submits a Notice of Cancellation of its Wholesale Power Supply Agreement, Service Agreement 1 file with the Commission.

Filed Date: 08/24/2010.

Accession Number: 20100825-0201.

Comment Date: 5 p.m. Eastern Time on Tuesday, September 14, 2010.

Docket Numbers: ER10-2378-000; ER10-2379-000.

Applicants: MATEP Limited Partnership; MATEP LLC.

Description: Petition of MATEP Limited Partnership et al., for acceptance of revised market-based rate tariffs and Waiver of Prior Notice Requirements.

Filed Date: 08/24/2010.

Accession Number: 20100825-0202.

Comment Date: 5 p.m. Eastern Time on Tuesday, September 14, 2010.

Docket Numbers: ER10-2380-000.

Applicants: Interstate Power and Light Company.

Description: Interstate Power and Light Company submits tariff filing per 35.12: Baseline IPL Agreements to be effective 8/25/2010.

Filed Date: 08/25/2010.

Accession Number: 20100825-5025.

Comment Date: 5 p.m. Eastern Time on Wednesday, September 15, 2010.

Docket Numbers: ER10-2381-000.

Applicants: Walnut Creek Energy, LLC.

Description: Walnut Creek Energy, LLC submits tariff filing per 35.12: Walnut Creek Energy, LLC Baseline Filing to be effective 8/26/2010.

Filed Date: 08/25/2010.

Accession Number: 20100825-5029.

Comment Date: 5 p.m. Eastern Time on Wednesday, September 15, 2010.

Docket Numbers: ER10-2382-000.

Applicants: San Juan Mesa Wind Project, LLC.

Description: San Juan Mesa Wind Project, LLC submits tariff filing per 35.12: San Juan Mesa Wind Project, LLC Baseline Filing to be effective 8/26/2010.

Filed Date: 08/25/2010.

Accession Number: 20100825-5034.

Comment Date: 5 p.m. Eastern Time on Wednesday, September 15, 2010.

Docket Numbers: ER10-2383-000.

Applicants: Mountain Wind Power II LLC.

Description: Mountain Wind Power II LLC submits tariff filing per 35.12: Mountain Wind Power II LLC Baseline Filing to be effective 8/26/2010.

Filed Date: 08/25/2010.

Accession Number: 20100825-5037.

Comment Date: 5 p.m. Eastern Time on Wednesday, September 15, 2010.

Docket Numbers: ER10-2384-000.

Applicants: Mountain Wind Power, LLC.

Description: Mountain Wind Power, LLC submits tariff filing per 35.12: Mountain Wind Power, LLC Baseline Filing to be effective 8/26/2010.

Filed Date: 08/25/2010.

Accession Number: 20100825-5038.

Comment Date: 5 p.m. Eastern Time on Wednesday, September 15, 2010.

Docket Numbers: ER10-2385-000.

Applicants: Elkhorn Ridge Wind, LLC.

Description: Elkhorn Ridge Wind, LLC submits tariff filing per 35.12: Elkhorn Ridge Wind, LLC Baseline Filing to be effective 8/26/2010.

Filed Date: 08/25/2010.

Accession Number: 20100825-5039.

Comment Date: 5 p.m. Eastern Time on Wednesday, September 15, 2010.

Docket Numbers: ER10-2386-000.

Applicants: Fairless Energy, LLC.

Description: Fairless Energy, LLC submits tariff filing per 35.12: Baseline to be effective 8/25/2010.

Filed Date: 08/25/2010.

Accession Number: 20100825-5051.

Comment Date: 5 p.m. Eastern Time on Wednesday, September 15, 2010.

Docket Numbers: ER10-2387-000.

Applicants: Tampa Electric Company.

Description: Tampa Electric Company submits tariff filing per 35.13(a)(2)(iii): Service Agreement No. 4 With Seminole Electric Cooperative to be effective 8/26/2010.

Filed Date: 08/25/2010.

Accession Number: 20100825-5061.

Comment Date: 5 p.m. Eastern Time on Wednesday, September 15, 2010.

Docket Numbers: ER10-2388-000.

Applicants: Midwest Independent Transmission System Operator, Inc.

Description: Midwest Independent Transmission System Operator, Inc. submits tariff filing per 35.12: BREC Attachment RR1 (v2) to be effective 8/25/2010.

Filed Date: 08/25/2010.

Accession Number: 20100825-5070.

Comment Date: 5 p.m. Eastern Time on Wednesday, September 15, 2010.

Take notice that the Commission received the following public utility holding company filings:

Docket Numbers: PH10-19-000.

Applicants: Cap Rock Holding Corporation, Cap Rock Energy Corporation.

Description: Notice of Material Change in Facts and Termination of Holding Company Status et al.

Filed Date: 08/12/2010.

Accession Number: 20100812-5127.

Comment Date: 5 p.m. Eastern Time on Thursday, September 02, 2010.

Take notice that the Commission received the following electric reliability filings:

Docket Numbers: RR10-13-000.

Applicants: North American Electric Reliability Corporation.

Description: Request of the North American Electric Reliability Corporation for Acceptance of its 2011 Business Plan and Budget and the 2011 Business Plans and Budgets of Regional Entities and for Approval of Proposed Assessments to Fund Budgets.

Filed Date: 08/24/2010.

Accession Number: 20100824-5155.

Comment Date: 5 p.m. Eastern Time on Tuesday, September 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-22257 Filed 9-7-10; 8:45 am]

BILLING CODE 6717-01-P